ENVIRONMENTAL PROTECTION AGENCY

40 CFR Parts 51, 60, and 63

[EPA-HQ-OAR-2016-0510; FRL-9986-42-OAR]

RIN 2060-AS95

Revisions to Testing Regulations for Air Emission Sources

Correction

In rule document 2018-24747, appearing on pages 56713 through 56734 in the issue of Wednesday, November 14, 2018 make the following correction:

On page 56732, the asterisks directly above Eq. 323-8 were printed in error and those after were omitted. The equation is corrected to appear as set forth below:

Appendix A to Part 63 [Corrected]

Method 323-Measurment of Formaldehyde Emissions From Natural Gas-Fired Stationary Sources-Acetyl Acetone Derivitization Method

* * * * *

* * * * *

[FR Doc. C1-2018-24747 Filed 11-19-18; 8:45 am]

BILLING CODE 1301-00-D